DEPARTMENT OF TRANSPORTATION

Surface Transportation Board

[STB Finance Docket No. 34107]

Genesee & Wyoming Inc.—Control Exemption—South Buffalo Railway Company

AGENCY: Surface Transportation Board.

ACTION: Notice of exemption.

SUMMARY: Under 49 U.S.C. 10502, the Board exempts from the prior approval requirements of 49 U.S.C. 11323, et seq., the acquisition by Genesee & Wyoming Inc. (GWI) of control of Class III rail carrier South Buffalo Railway Company. GWI is a noncarrier holding company that directly controls Buffalo & Pittsburgh Railroad, Inc., a Class II carrier operating in New York and Pennsylvania. GWI also directly controls 13 Class III rail carriers.¹ GWI indirectly controls three Class III rail carriers through its ownership of noncarrier Rail Link, Inc.² In order to avoid an unlawful control violation, GWI has submitted, under 49 CFR 1013, a proposed voting trust agreement. GWI requests expedited action on the exemption petition, which the Board is granting by making the exemption effective 15 days from the date of service rather than the normal 30 days. This request is addressed in the Board's decision.

¹ Allegheny & Eastern Railroad, Inc., Bradford Industrial Rail, Inc., Corpus Christi Terminal Railroad, Inc., Dansville and Mount Morris Railroad Company, Genesee & Wyoming Railroad Company, Inc., Golden Isles Terminal Railroad, Inc., Savannah Port Terminal Railroad, Inc., Illinois & Midland Railroad, Inc., Louisiana & Delta Railroad, Inc., Pittsburgh & Shawmut Railroad, Inc., Portland & Western Railroad, Inc., Rochester and Southern Railroad, Inc., and Willamette & Pacific Railroad, Inc.

² Carolina Coastal Railway, Inc., Commonwealth Railway, Inc., and Talleyrand Terminal Railroad, Inc.

DATES: The exemption will be effective December 6, 2001. Petitions for stay must be filed by November 26, 2001. Petitions for reconsideration must be filed by December 11, 2001.

ADDRESSES: Send an original and 10 copies of any pleadings referring to STB Finance Docket No. 34107 to: Surface Transportation Board, Office of the Secretary, Case Control Unit, 1925 K Street, NW., Washington, DC 20423-0001. In addition, send one copy of any pleadings to petitioner's representatives: Jo A. DeRoche and Troy W. Garris, 1300 19th Street, NW., Washington, DC 20036-1609.

FOR FURTHER INFORMATION CONTACT: Joseph H. Dettmar (202) 565-1600 [TDD for the hearing impaired: 1-800-877-8339.]

SUPPLEMENTARY INFORMATION: Additional information is contained in the Board's decision. To purchase a copy of the full decision, write to, call, or pick up in person from: Da 2 Da Legal, 1925 K Street NW., Suite 405, Washington, DC 20006. Telephone: (202) 293-7776. [Assistance for the hearing impaired is available through TDD services 1-800-877-8339].

Board decisions and notices are available on our web site at “WWW.STB.DOT.GOV.”

Decided: November 14, 2001.
By the Board, Chairman Morgan, Vice Chairman Clyburn, and Commissioner Burkes.
Vernon A. Williams,
Secretary.

[FR Doc. 01-28994 Filed 11-20-01; 8:45 am]

BILLING CODE 4915-00-P